DEPARTMENT OF TRANSPORTATION

Federal Aviation Administration

Availability of Record of Decision for the Environmental Impact Statement, Gnoss Field Airport, Novato, Marin County, California

AGENCY: Federal Aviation Administration, DOT.

ACTION: Notice of availability for record of decision.

SUMMARY: The Federal Aviation Administration (FAA) is issuing this notice to advise the public that it has published a Record of Decision (ROD) signed by the FAA for the Final Supplement to the Final Environmental Impact Statement (EIS) for the proposed Runway Extension Project at Gnoss Field Airport (DVO), Novato, Marin County, California.

FOR FURTHER INFORMATION CONTACT: Doug Pomeroy, Environmental Protection Specialist, Office of Airports, Federal Aviation Administration, San Francisco Airports District Office, 1000 Marina Boulevard, Suite 220, Brisbane, California 94005-1835, Telephone: 650-827-7612.

SUPPLEMENTARY INFORMATION: The FAA as lead agency, has completed and is publishing a Record of Decision (ROD) for proposed improvements identified at DVO. The ROD was prepared pursuant to Title 40, Code of Federal Regulations (CFR) 1505.2.

The FAA published its Final EIS on July 3, 2014 and its Final Supplement to the Final EIS for the proposed Runway Extension Project on March 6, 2020. The FAA prepared the Final EIS and the Final Supplement to the Final EIS pursuant to the National Environmental Policy Act of 1969; the Council of Environmental Quality implementing regulations, 40 CFR parts 1500-1508, FAA Order 1050.1F, and FAA Order 5050.4B. FAA assessed the potential environmental impacts of the Runway Extension Project, as well as the No Action Alternative where the County would make no improvements at DVO.

In the Final EIS, the FAA identified the Alternative E—a 300 foot runway extension, as the preferred alternative in meeting the purpose and need for extending the runway at DVO. Alternative E includes:

• Extend Runway 13/31 300 feet to the northwest from 3,300 feet to a total length of 3,600 feet while maintaining the 75-foot width of the runway;

• Shift Runway 13/31 threshold 106 feet to the northwest to allow construction of FAA 300-foot B-II standard Runway Safety Area (RSA) beyond each runway end while staying within existing DVO property.

• Relocate existing taxiways accessing south end of Runway 13/31 to new runway end;

• Extend the parallel taxiway to the full length of the runway;

• Extend the existing Runway Safety Area (RSA) along the sides of Runway 13/31 to provide B-II standard RSA width of 150 feet centered on the runway centerline;

• Corresponding realignment of drainage channels to drain the extended runway and taxiway;

• Corresponding levee extension to protect the extended runway and taxiway from flooding.

• Relocate the Navigational Aids (NAVAIDs), such as the Precision Approach Path Indicator (PAPI) that pilots use to land at the Airport to reflect the extended runway.

Due to the on-going COVID-19 Pandemic, and the ongoing closure of local libraries, a copy of the ROD is available for public review at FAA's website: https://www.faa.gov/airports/environmental/records_decision/ and the Gnoss Airport EIS website http://gnossfieldeis-eir.com/reports_documents/.

Questions may be directed to the individual above under the heading FOR FURTHER INFORMATION CONTACT.

Issued in El Segundo, California, on July 22, 2020.
Mark A. McClardy,
Director, Office of Airports, Western—Pacific Region, AWP-600.

[FR Doc. 2020-16491 Filed 7-29-20; 8:45 am]

BILLING CODE 4910-13-P